DEPARTMENT OF THE INTERIOR

Fish and Wildlife Service

Notice of Availability of a Draft Environmental Assessment for the Delta Management at Fort St. Philip Project, Plaquemines Parish, Louisiana

AGENCY: Fish and Wildlife Service, Interior.

ACTION: Notice of document availability.

SUMMARY: We, the Fish and Wildlife Service, announce the availability of the draft Environmental Assessment (EA) for the Delta Management at Fort St. Philip Project. A more detailed description of the project is outlined in the Supplementary Information section below. A copy of the draft EA may be obtained by sending a written request to our Louisiana Field Office (see ADDRESSES section). Requests must be made in writing to be processed. This notice is provided pursuant to National Environmental Policy Act regulations (40 CFR 1506.6).

We specifically request information, views, and opinions from the public through this Notice on the Federal action, including the identification of any other aspects of the human environment not already identified in the our EA.

DATES: Written comments on the draft EA must be received on or before June 24, 2002.

ADDRESSES: Persons wishing to review the draft EA may obtain a copy by writing to the Field Supervisor, U.S. Fish and Wildlife Service, 646 Cajundome Boulevard, Suite 400, Lafayette, Louisiana 70506. If you wish to comment, you may submit comments by any one of several methods. You may mail comments to the Louisiana Field Office at the address listed above. You also may comment via the Internet to “kevin_roy@fws.gov”. Please submit comments over the internet as an ASCII file avoiding the use of special characters and any form of encryption. Please also include your name and return address in your internet message. If you do not receive a confirmation from us that we have received your internet message, contact us directly at the telephone numbers listed below (see FURTHER INFORMATION CONTACT section). Finally, you may hand deliver comments to the Louisiana Field Office. Data or comments regarding the draft EA should be submitted in writing to the Louisiana Field Office to be adequately considered in the our decision-making process. Documents will be available for public inspection by appointment during normal business hours at our Louisiana Field Office (Attn: Kevin Roy).

FOR FURTHER INFORMATION CONTACT: Mr. Kevin Roy, Fish and Wildlife Biologist, (see ADDRESSES section), telephone: 337/291-3120 or 337/291-3100, facsimile: 337/291-3139.

SUPPLEMENTARY INFORMATION:

Background

The Delta Management at Fort St. Philip Project, is being funded through the Coastal Wetlands Planning, Protection and Restoration Act on the Tenth Priority Project List. The project purpose is to promote the formation of emergent marsh through the construction of artificial crevasses and earthen terraces. The project is located near the east bank of the Mississippi River adjacent to Fort St. Philip in Plaquemines Parish, Louisiana. The project area has experienced extensive marsh loss since the mid 1970s, with loss rates as high as 8 percent per year. However, many areas are experiencing marsh growth as sediment introduced from the Mississippi River through a natural crevasse is causing infilling of open water areas. The preferred alternative is to construct earthen terraces and artificial crevasses to enhance the natural processes of marsh building now occurring in the project area.

Public Comments Solicited

We solicit written comments on the draft EA described. All comments received by the date specified above will be considered in our decision-making process.

Our practice is to make comments, including names and home addresses of respondents, available for public review during regular business hours. Individual respondents may request that we withhold their home address from the administrative record. We will honor such requests to the extent allowable by law. There may also be circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Author

The primary author of this document is Kevin Roy (see ADDRESSES Section).

Authority

The authority for this action is the National Environmental Quality Improvement Act of 1970, as amended (42 U.S.C. 4371 et seq.) and CEQ Regulations 40 CFR 1506.6.

Dated: May 6, 2002.
Cynthia K. Dohner,
Acting Regional Director.

[FR Doc. 02-13078 Filed 5-23-02; 8:45 am]

BILLING CODE 4310-55-P